DEPARTMENT OF TRANSPORTATION

Federal Highway Administration

[Docket No. FHWA-2004-18781]

Agency Information Collection Activities; Request for Comments; Emergency Clearance of a New Information Collection; NHI Web Portal

AGENCY: National Highway Institute, Federal Highway Administration (FHWA), DOT.

ACTION: Notice.

SUMMARY: The FHWA invites public comments about our intention to request the Office of Management and Budget's (OMB) approval for a new information collection, which is summarized below under Supplementary Information. We are required to publish this notice in the Federal Register by the Paperwork Reduction Act of 1995.

DATES: Please submit comments by September 24, 2004.

ADDRESSES: You may submit comments identified by DOT DMS Docket Number FHWA-2004-18781 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time, or to Room PL-401 on the plaza level of the Nassif Building, 400 Seventh Street, SW., Washington, DC, between 9 a.m. and 5 p.m., Monday through Friday, except Federal holidays.

FOR FURTHER INFORMATION CONTACT: Nancy Stout, (703) 235-1260, National Highway Institute, Federal Highway Administration, Department of Transportation, 4600 N. Fairfax Drive, Suite 800, Arlington, VA 22203. Office hours are from 7:30 a.m. to 5 p.m., Monday through Friday, except Federal holidays.

SUPPLEMENTARY INFORMATION: Title: National Highway Institute Web Portal.

Background: The National Highway Institute (NHI) is required by Congress to provide surface transportation training to the State Departments of Transportation, Metropolitan Planning Organizations, the private sector, and universities. Further, the E-Gov initiative requires the NHI to use technology to more efficiently serve our customers who work and live throughout the United States.

NHI's customers are composed of several different groups with varied needs. In an effort to better serve each group's needs, the NHI Web Portal will provide the following capabilities for its users:

• Register for courses

• Pay for courses and course materials

• Request to host an NHI course

• View training history

• Register for a web conference

• Schedule a web conference

In order to provide the above capabilities to our users, some personal information will be necessary for the NHI Web Portal. Common information that will be collected includes name (first and last), telephone number, and e-mail address, to be used for identification and correspondence purposes. In addition, the mailing address will be used to ship course materials to students and/or hosts (those hosting an NHI training course). Billing information will be collected to allow customers to easily pay for their courses and course materials. Billing information shall not be stored within the NHI Web Portal, and will only be used to verify payment information.

As required by the International Association for Continuing Education and Training, students must be able to obtain their training history. To make this possible, a student must be uniquely identified, which requires the collection of personal information including name and the last four digits of their social security number. This information will be used to identify the specific training participant and to generate accurate training history in the form of a transcript. The transcript is accepted by professional associations and State Licensure Boards as proof that the individual has completed training and received professional development hours or continuing education units required, all or in part, to meet criteria for continued licensure or certification. NHI is a source of that professional education.

In summary, the purpose of the new information collection is to improve the quality of NHI's customer service. Allowing customers to enter personal information provides them with an increasingly automated service that leads to more timely information.

Respondents: NHI training customers throughout the U.S. NHI trains approximately 13,000 students per year in more than 500 training sessions and provides training products and/or services to another 1,000 (approximate) customers. These products include training materials distributed to university faculty and programs, private sector providers and hosts, and participants.

Frequency: Persons requesting training or materials will submit their requests as needed. Our experience indicates that only one request per individual per year will be received.

Estimated Average Burden per Response: 5 minutes.

Estimated Total Annual Burden Hours: We anticipate approximately, 14,000 users × 5 minutes per request = 1,167 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. Chapter 35, as amended; and 49 CFR 1.48.

Issued on: August 19, 2004.
James R. Kabel,
Chief, Management Programs and Analysis Division.

[FR Doc. 04-19454 Filed 8-24-04; 8:45 am]

BILLING CODE 4910-22-P